NUCLEAR REGULATORY COMMISSION

[NRC-2019-0111]

Restart of a Nuclear Power Plant Shut Down by an Earthquake

AGENCY: Nuclear Regulatory Commission.

ACTION: Regulatory guide; withdrawal.

SUMMARY: The U.S. Nuclear Regulatory Commission (NRC) is withdrawing regulatory guide (RG), RG 1.167 “Restart of a Nuclear Power Plant Shut Down by an Earthquake.” The guide is being withdrawn because its guidance has been incorporated into a related guide, namely RG 1.166 “Pre-Earthquake Planning, Shutdown, and Restart of a Nuclear Power Plant Following an Earthquake.”

DATES: The effective date of the withdrawal of RG 1.167 is February 21, 2020.

ADDRESSES: Please refer to Docket ID NRC-2019-0111 when contacting the NRC about the availability of information regarding this document. You may obtain publicly-available information related to this document using any of the following methods:

• Federal Rulemaking Website: Go to http://www.regulations.gov and search for Docket ID NRC-2019-0111. Address questions about NRC dockets IDs in Regulations.gov to Jennifer Borges; telephone: 301-287-9127; email: Jennifer.Borges@nrc.gov. For technical questions, contact the individual(s) listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced. The basis for withdrawal of RG 1.167 is available in ADAMS under Accession No. ML19266A631.

• NRC's PDR: You may examine and purchase copies of public documents at the NRC's PDR, Room O1-F21, One White Flint North, 11555 Rockville Pike, Rockville, Maryland 20852.

FOR FURTHER INFORMATION CONTACT: Vladimir Graizer, Office of Nuclear Reactor Regulation, telephone: 301-415-2380, email: Vladimir.Graizer@nrc.gov; Thomas Weaver, telephone: 301-415-2383, email: Thomas.Weaver@nrc.gov; and Edward.O'Donnell, Office of Nuclear Regulatory Research, telephone: 301-415-3317, email: Edward O'Donnell@nrc.gov. All are staff of the U.S. Nuclear Regulatory Commission, Washington, DC 20555-0001.

SUPPLEMENTARY INFORMATION:

I. Introduction

Regulatory guides may be withdrawn by the NRC when their guidance no longer provides useful information, or is superseded by technological innovations, congressional actions, or other events. The NRC is withdrawing RG 1.167 because its guidance has been incorporated into RG 1.166, “Pre-Earthquake Planning, Shutdown, and Restart of a Nuclear Power Plant Following an Earthquake” (ADAMS Accession No. ML19266A616).

II. Further Information

The withdrawal of RG 1.167 does not alter any prior or existing NRC licensing approval or the acceptability of licensee commitments to this RG. Although RG 1.167 is withdrawn, current licensees may continue to use it, and withdrawal does not affect any existing licenses or agreements. However, by withdrawing RG 1.167, the NRC no longer approves the guidance in this RG for use in future requests or applications for NRC licensing actions.

Dated at Rockville, Maryland, this 14th day of February 2020.
For the Nuclear Regulatory Commission.
Stanley J. Gardocki,
Acting Chief, Regulatory Guidance and Generic Issues Branch, Division of Engineering, Office of Nuclear Regulatory Research.

[FR Doc. 2020-03436 Filed 2-20-20; 8:45 am]

BILLING CODE 7590-01-P